SURFACE TRANSPORTATION BOARD

[STB Docket No. FD 35952]

Great Lakes Basin Transportation, Inc: Authority To Construct and Operate a Rail Line in Indiana, Illinois and Wisconsin

AGENCY: Surface Transportation Board.

ACTION: Notice of Intent to Prepare an Environmental Impact Statement; Notice of Availability of the Draft Scope of Study for the Environmental Impact Statement; Notice of Scoping Meetings; and Request for Comments on Draft Scope of Study.

SUMMARY: Great Lakes Basin Transportation, Inc. (GLBT) plans to file either a petition for exemption pursuant to 49 U.S.C. 10502, or an application pursuant to 49 U.S.C. 10901, seeking authority from the Surface Transportation Board (Board) to construct and operate an approximately 278-mile rail line. According to GLBT, the proposed rail line would extend generally from near La Porte, Indiana through Illinois to near Milton, Wisconsin and would connect with existing Class I railroads.

The construction and operation of the GLBT's proposed rail line has the potential to result in significant environmental impacts; therefore, the Board's Office of Environmental Analysis (OEA) has determined that the preparation of an Environmental Impact Statement (EIS) is appropriate pursuant to the National Environmental Policy Act of 1969 (NEPA), as amended (42 U.S.C. 4321 et seq.). The purpose of this Notice of Intent is to inform stakeholders—including members of the public; Tribes; federal, state, and local agencies; environmental groups; potential shippers and other parties—interested in or potentially affected by the proposed project. OEA will hold public scoping meetings as part of the NEPA process. Comments submitted during scoping will assist OEA in defining the range of alternatives and potential impacts to be considered in the EIS. OEA has developed a Draft Scope of Study for the EIS for stakeholder review and comment. Public meeting dates and locations, along with the Draft Scope of Study, are provided below. This Notice of Intent initiates the EIS process and scoping.

DATES: Dates and Locations: The public scoping meetings will be held at the following locations on the dates listed:

• April 11, 2016; 5:30-8:00 p.m.; Manteno Sportsmen's Club Banquet Hall, 851 North Main Street, Manteno, Illinois;

• April 12, 2016; 5:30-8:00 p.m.; Lowell Town Hall, 501 East Main Street, Lowell, Indiana;

• April 13, 2016; 5:30-8:00 p.m.; American Legion Banquet Hall, 203 South Washington Street, Wanatah, Indiana;

• April 14, 2016; 5:30-8:00 p.m.; Civic Auditorium Banquet Room, 1001 Ridge Street, LaPorte, Indiana;

• April 18, 2016; 5:30-8:00 p.m.; Craig High School Cafeteria, 401 South Randall Street, Janesville, Wisconsin;

• April 19, 2016; 5:30-8:00 p.m.; Cherry Valley Fire Station #2 Hall, 4919 Blackhawk Road, Rockford, Illinois;

• April 20, 2016; 5:30-8:00 p.m.; Rochelle Township High School Auditorium, 1401 Flagg Road, Rochelle, Illinois; and

• April 21, 2016; 5:30-8:00 p.m.; Seneca High School Auditorium, 307 East Scott Street, Seneca, Illinois.

The scoping meetings will be held in an open house format for the first hour followed by a brief presentation by OEA. After the presentation, interested parties will be provided an opportunity for public comment at an open microphone for the balance of the scoping meeting. A court reporter will transcribe these oral public comments.

The meeting locations comply with the Americans with Disabilities Act of 1990 (42 U.S.C. 12101 et seq.). Persons that need special accommodations should contact OEA's project manager listed below.

OEA invites written public comments on all aspects of the Draft Scope of Study and is providing a 60-day public comment period which begins on March 18, 2016. These written comments may be submitted (1) during the scoping meetings, or (2) by mailing or electronic filing the comments using the filing instructions below. Comments should be submitted by May 16, 2016 to assure full consideration during the scoping process. OEA will issue a Final Scope of Study after the close of the scoping comment period.

Summary of the Board's Environmental Review Process: The NEPA process is intended to assist the Board and the public in identifying and assessing the potential environmental consequences of a proposed action before a decision on the proposed action is made. OEA is responsible for ensuring that the Board complies with NEPA and related environmental statutes. The first stage of the EIS process is scoping. Scoping is an open process for determining the scope of environmental issues to be addressed in the EIS. As part of the scoping process, OEA has developed, and has made available for public comment in this notice, a Draft Scope of Study for the EIS. Scoping meetings will be held in the project area to provide further opportunities for public involvement and input during the scoping process. In addition to comments on the Draft Scope of Study, interested parties are also encouraged to comment on potential alternative routes for the proposed rail line. At the conclusion of the scoping period, OEA will issue a Final Scope of Study for the EIS.

After issuing the Final Scope of Study, OEA will prepare a Draft EIS for the project. The Draft EIS will address the environmental issues and concerns identified during the scoping process and assess and compare potential alternatives including the no-action alternative. The Draft EIS will also contain OEA's preliminary recommendations for environmental mitigation measures. Upon its completion, the Draft EIS will be made available for review and comment by the public, government agencies, and other interested parties. OEA will prepare a Final EIS that considers comments on the Draft EIS. In reaching its decision in this case, the Board will consider the Draft EIS, the Final EIS, all environmental comments, and OEA's recommendations regarding the environmentally preferred alternative and environmental mitigation measures.

OEA will be inviting several agencies to participate in this EIS process as cooperating agencies on the basis of their special expertise or jurisdiction by law.

Filing Environmental Comments: Scoping comments submitted by mail should be addressed to: Dave Navecky, Surface Transportation Board, 395 E Street SW., Washington, DC 20423-0001, Docket No. FD 35952.

Scoping comments may also be submitted electronically on the Board's Web site, www.stb.dot.gov, by clicking on the “E-FILING” link on the home page and then selecting “Environmental Comments.” Log-in accounts are not needed to file environmental comments electronically, and comments may be typed into the text box provided or attached as a file. If you have difficulties with the e-filing process, please call 202-245-0350.

Please refer to Docket No. FD 35952 in all correspondence, including e-filings, addressed to the Board.

Scoping Comments are due by May 16, 2016.

FOR FURTHER INFORMATION CONTACT: Dave Navecky by mail at Office of Environmental Analysis, Surface Transportation Board, 395 E Street SW., Washington, DC 20423-0001; by email at david.navecky@stb.dot.gov, or by phone at 202-245-0294. Assistance for the hearing impaired is available through the Federal Information Relay Service (FIRS) at 1-800-877-8339. Members of the press should contact Dennis Watson in the Board's Office of Public Assistance, Governmental Affairs, and Compliance by email at dennis.watson@stb.dot.gov, or by phone at 202-245-0234.

The Web site for the Board is www.stb.dot.gov. Project specific information on the Board's Web site may be found by placing your cursor on the “Environmental Matters” button, then clicking on the “Key Cases” button in the drop down menu and then selecting “Great Lakes Basin.” For additional information about the Board's environmental review process and this EIS, you may also visit a Board-sponsored project Web site at GreatLakesBasinRailEIS.com. The project Web site includes a map of the project area including the potential route proposed by GLBT.

SUPPLEMENTARY INFORMATION:

Draft Scope of Study for the EIS

Purpose and Need

GLBT states that the principal purpose of the proposed rail line is to provide Class I railroads and a regional railroad utilizing the Chicago metropolitan terminal area with more efficient options to route trains around the city. The Class I railroads include: BNSF Railway Company, Union Pacific Railroad Company, Canadian National Railway Company, Norfolk Southern Railway Company, Canadian Pacific Railway Company, and CSX Transportation, Inc. The regional railroad is the Wisconsin and Southern Railroad LLC. The proposed rail line would (1) allow freight traffic not destined for or originating in Chicago to bypass the existing congested Chicago terminal area, and (2) add capacity to accommodate existing and reasonably anticipated future growth while avoiding major population centers.

GLBT anticipates that the proposed rail line would be utilized by unit commodity trains and mixed carload and intermodal trains that do not require transport to the Chicago terminal area for sorting or delivery. GLBT would construct a terminal for its rail operations near Manteno, Illinois to provide switching, servicing, and car and locomotive repair to its railroad customers. According to GLBT, transit times through the Chicago area, which currently can take up to 30 hours to complete, would be reduced to under 8 hours depending on the specific interchange points and applicable speed restrictions on the proposed rail line. The expected congestion relief would allow the railroads to better handle their Chicago proper and suburban traffic and make room for potential future growth within the existing terminal network.

The proposed project is not a federal government-proposed or sponsored project. Thus, the Board has determined that the project's purpose and need should be informed by both the applicant's goals and the agency's enabling statute, here, 49 U.S.C. 10901. Section 10901 provides that the Board must approve a construction request unless it finds that the construction is “inconsistent with the public convenience and necessity.”

Proposed Action and Alternatives

GLBT's proposed rail line would involve a petition for exemption or application seeking authority from the Board to construct and operate an approximately 278-mile rail line. According to GLBT, the rail line would extend generally from near La Porte, Indiana through Illinois to near Milton, Wisconsin.

The proposed rail line would consist mostly of double track. The tracks would use Centralized Traffic Control signals and Positive Train Control to allow for movements of up to 110 trains per day. Other major elements of the proposed project would include a 200-foot-wide right-of-way, flyovers at railroad crossings, four major river crossings in the State of Illinois (the Illinois, Kankakee, Fox, and Rock rivers), and grade-separated crossings of interstate highways and many roadways. The proposed project could include at-grade road crossings and the closure of some small rural roads.

The EIS will analyze and compare the potential impacts of (1) construction and operation of all reasonable and feasible alternative routes for the proposed GLBT rail line and (2) the no-action alternative (denial of the petition or application).

Environmental Impact Analysis

Proposed Construction and Operation

Analyses in the EIS will address the proposed activities associated with the construction and operation of the rail line and its potential environmental impacts, as appropriate.

Impact Categories

The EIS will analyze potential direct, indirect, and cumulative impacts ¹ of GLBT's proposed rail line construction and operation, including the range of reasonable and feasible alternatives, on the human and natural environment, or in the case of the no-action alternative, the lack of these activities.

¹ NEPA requires the Board to consider direct, indirect, and cumulative impacts. Direct and indirect impacts are both caused by the action. 40 CFR 1508.8(a)-(b). A cumulative impact is the “incremental impact of the action when added to other past, present, and reasonably foreseeable future actions regardless of what agency (federal or non-federal) or person undertakes such other actions.” 40 CFR 1508.7.

Impact areas addressed will include the categories of transportation systems, safety, land use, recreation, biological resources, water resources, including wetlands and other waters of the U.S., navigation, geology and soils, air quality, noise, energy resources, socioeconomics, cultural and historic resources, aesthetics and environmental justice. Other categories of potential impacts may also be included as a result of comments received during the scoping process or on the Draft EIS. The EIS will include a discussion of each of these categories as they currently exist in the project area and will address the potential direct, indirect, and cumulative impacts of each reasonable and feasible alternative on each category as described below:

1. Transportation Systems

The EIS will:

a. Describe existing transportation network in the project area.

b. Analyze potential impacts resulting from each alternative on the existing transportation network in the project area.

c. Propose mitigation measures to avoid, minimize or eliminate potential project impacts to transportation systems, as appropriate.

2. Safety

The EIS will:

a. Describe road/rail grade crossing safety and analyze the potential for an increase in accidents related to the proposed rail operations, as appropriate.

b. Describe existing rail operations and analyze the potential for increased probability of train accidents, as appropriate.

c. Analyze the potential for disruption and delays to the movement of emergency vehicles from any new at-grade crossings and road closures that could accompany the construction and operation of the proposed rail line.

d. Propose mitigation measures to avoid, minimize or eliminate potential project impacts on safety, as appropriate.

3. Land Use

The EIS will:

a. Describe existing land use patterns in the project area. Analyze potential impacts on existing land use patterns and land uses from each alternative including potential impacts on agricultural activities from rail line construction and operation.

b. Evaluate consistency with Coastal Zone Management Program, as applicable.

c. Propose mitigation measures to avoid, minimize or eliminate potential impacts on land use, as appropriate.

4. Recreation

The EIS will:

a. Describe existing conditions and analyze the potential impacts of each alternative on recreational areas and opportunities provided in the project area.

b. Propose mitigation measures to avoid, minimize or eliminate potential project impacts on recreational opportunities, as appropriate.

5. Biological Resources

The EIS will:

a. Evaluate the existing biological resources within the project area, including vegetative communities, wildlife, fisheries, wetlands, and federal and state threatened or endangered species, and the potential impacts to these resources resulting from each alternative.

b. Describe any relevant wildlife sanctuaries, refuges, national or state parks, forests, or grasslands, and analyze the potential impacts on these resources resulting from each alternative.

c. Propose mitigation measures to avoid, minimize or eliminate potential project impacts to biological resources, as appropriate.

6. Water Resources

The EIS will:

a. Describe the existing surface water and groundwater resources within the project area, including the lakes, rivers, streams, agricultural drainage tile systems, stock ponds, wetlands, and floodplains and analyze the potential impacts on these resources resulting from each alternative.

b. Describe the permitting requirements for the various alternatives with regard to wetlands, river crossings, water quality, floodplains, and erosion control.

c. Propose mitigation measures to avoid, minimize or eliminate potential project impacts to water resources, as appropriate.

7. Navigation

The EIS will:

a. Describe existing navigable waterways within the project area and analyze the potential impacts on navigability resulting from each alternative.

b. Describe the permitting requirements for the various alternatives with regard to navigation.

c. Propose mitigation measures to avoid, minimize or eliminate potential impacts on navigation, as appropriate.

8. Geology and Soils

The EIS will:

a. Describe the geology, soils, and seismic conditions found within the project area, including unique or problematic geologic formations or soils, prime farmland, and hydric soils, and analyze the potential impacts on these resources resulting from each alternative.

b. Analyze potential measures employed to avoid or construct through unique or problematic geologic formations or soils.

c. Propose mitigation measures to avoid, minimize or eliminate potential project impacts on geology and soils, as appropriate.

9. Air Quality and Climate

The EIS will:

a. Analyze the potential air emissions from operations on each alternative, including potential changes in greenhouse gas emissions, as appropriate.

b. Analyze the potential air quality impacts resulting from rail line construction activities.

c. Analyze the potential impacts of the proposed project on global climate change and the potential impacts of global climate change on the proposed project.

d. Propose mitigation measures to avoid, minimize or eliminate potential project impacts on air quality and global climate change, as appropriate.

10. Noise and Vibration

The EIS will:

a. Describe the potential noise and vibration impacts on noise sensitive receptors (e.g., residences, schools, and libraries) of each alternative.

b. Propose mitigation measures to avoid, minimize or eliminate potential project impacts on sensitive noise receptors, as appropriate.

11. Energy Resources

The EIS will:

a. Describe and analyze the potential impact of the proposed project on the distribution of energy resources in the project area resulting from each alternative.

b. Propose mitigation measures to avoid, minimize or eliminate potential project impacts on energy resources, as appropriate.

12. Socioeconomics

The EIS will:

a. Analyze the effects of a potential influx of construction workers to the project area and the potential increase in demand for local services interrelated with natural or physical environmental effects.

b. Propose mitigation measures to avoid, minimize or eliminate potential project impacts on social and economic resources, as appropriate.

13. Cultural and Historic Resources

The EIS will:

a. Describe historic buildings, structures, sites, objects, or districts eligible for listing on or listed on the National Register of Historic Places (built-environment historic properties) within the area of potential effects for each alternative and analyze potential project impacts on them.

b. Describe properties of traditional religious and cultural importance to Indian Tribes, Traditional Cultural Properties (TCPs), and prehistoric or historic archaeological sites evaluated as potentially eligible, eligible, or listed on the National Register of Historic Places (archaeological and historic properties) within the area of potential effects for each alternative, and analyze potential project impacts on them.

c. Propose mitigation measures to avoid, minimize or eliminate potential project impacts to TCPs, and built-environment and archaeological historic properties, as appropriate.

14. Aesthetics

The EIS will:

a. Describe the potential impacts of the proposed rail line construction on any areas identified or determined to be of high visual quality.

b. Describe the potential impacts of the proposed rail line construction on any waterways considered for or designated as wild and scenic.

c. Propose mitigation measures to avoid, minimize or eliminate potential project impacts on aesthetics, as appropriate.

15. Environmental Justice

The EIS will:

a. Describe minority and low-income populations in the project area.

b. Analyze the potential impacts resulting from each alternative on those minority and low-income populations.

c. Propose mitigation measures to avoid, minimize or eliminate potential project impacts on environmental justice populations, as appropriate.

16. Cumulative Impacts

The EIS will evaluate the cumulative and incremental impacts of the proposed project when added to impacts from other past, present, and reasonably foreseeable future actions in the project area, as appropriate.

Decided: March 15, 2016.
By the Board, Victoria Rutson, Director, Office of Environmental Analysis.
Kenyatta Clay,
Clearance Clerk.

[FR Doc. 2016-06151 Filed 3-17-16; 8:45 am]

BILLING CODE 4915-01-P